FEDERAL COMMUNICATIONS COMMISSION

47 CFR Part 73

[DA 04-1200; MB Docket No. 02-212; RM-10516 & 10618]

Radio Broadcasting Services; Crystal Beach, TX, Lumberton, TX, Vinton, LA and Winnie, TX

AGENCY: Federal Communications Commission.

ACTION: Final rule.

SUMMARY: In response to a petition filed by Charles Crawford requesting the allotment of Channel 287A at Vinton, Louisiana, the Commission issued a Notice of Proposed Rule Making. See 67 FR 53903, August 20, 2002. This document grants a counterproposal filed by Tichenor License Corporation requesting the following: reallotment of Channel 264C from Winnie, Texas, to Lumberton, Texas, and modification of the license for Station KOBT to specify operation at Lumberton, and substitution of Channel 287C2 for Channel 287A at Crystal Beach, Texas, reallotment of Channel 287C2 to Winnie, Texas, and modification of the license for Station KLTO to specify operation on Channel 287C2 at Winnie, Texas. The coordinates for Channel 264C at Lumberton are 30-03-05 and 94-31-37 and the coordinates for Channel 287C2 at Winnie are 29-41-45 and 94-19-35. The petition filed by Charles Crawford has been dismissed. With this action this proceeding is terminated.

DATES: Effective June 18, 2004.

FOR FURTHER INFORMATION CONTACT: Robert Hayne, Media Bureau, (202) 418-2180.

SUPPLEMENTARY INFORMATION: This is a synopsis of the Commission's Report and Order, MB Docket No. 02-212, adopted April 30, 2004, and released May 4, 2004. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Texas, is amended by removing Channel 287A at Crystal Beach, by removing Channel 264C and adding Channel 287C2 at Winnie and by adding Lumberton, Channel 264C.

Federal Communications Commission.
John A. Karousos,
Assistant Chief, Audio Division, Media Bureau.

[FR Doc. 04-11544 Filed 5-20-04; 8:45 am]

BILLING CODE 6712-01-P